DEPARTMENT OF AGRICULTURE

Submission for OMB Review; Comment Request

July 1, 2013.

The Department of Agriculture has submitted the following information collection requirement(s) to OMB for review and clearance under the Paperwork Reduction Act of 1995, Public Law 104-13. Comments regarding (a) Whether the collection of information is necessary for the proper performance of the functions of the agency, including whether the information will have practical utility; (b) the accuracy of the agency's estimate of burden including the validity of the methodology and assumptions used; (c) ways to enhance the quality, utility and clarity of the information to be collected; (d) ways to minimize the burden of the collection of information on those who are to respond, including through the use of appropriate automated, electronic, mechanical or other technological collection techniques or other forms of information technology.

Comments regarding this information collection received by August 7, 2013 will be considered. Written comments should be addressed to: Desk Officer for Agriculture, Office of Information and Regulatory Affairs, Office of Management and Budget (OMB), New Executive Office Building, 725—17th Street NW., Washington, DC 20503. Commenters are encouraged to submit their comments to OMB via email to: OIRA_Submission@omb.eop.gov or fax (202) 395-5806 and to Departmental Clearance Office, USDA, OCIO, Mail Stop 7602, Washington, DC 20250-7602. Copies of the submission(s) may be obtained by calling (202) 720-8681.

An agency may not conduct or sponsor a collection of information unless the collection of information displays a currently valid OMB control number and the agency informs potential persons who are to respond to the collection of information that such persons are not required to respond to the collection of information unless it displays a currently valid OMB control number.

National Agricultural Statistics Service

Title: Census of Aquaculture.

OMB Control Number: 0535-0237.

Summary of Collection: The primary objective of the 2013 Census of Aquaculture is to obtain a comprehensive and detailed picture of the aquaculture sector of the economy. Authority to administer the census of aquaculture is covered by Public Law 105-113, the Census of Agriculture Act of 1997, and U.S. Code Title 7. The census of aquaculture will be the only source of data comparable and consistent at the national and State levels. It will cover all operations, commercial or noncommercial, for which $1,000 or more of aquaculture products were sold or normally would have been sold during the census year. The census of aquaculture is one of a series of special study programs that comprise the follow-ons to the census of agriculture and is designed to provide more detailed statistics on the aquaculture industry.

Need and Use of the Information: The National Agricultural Statistics Service will collect data to provide a comprehensive inventory on the number of operations, freshwater and saltwater acreage used for aquaculture production, water sources used for production, methods of production, total production, sales outlets, value of aquaculture products sold and sales by aquaculture species, products distributed for recreation, restoration or conservation by species. These data will provide information on the aquaculture industry necessary for farmers, government and various groups, concerned with the aquaculture industry to evaluate policy and programs, make marketing decisions and determine the economic impact on the economy.

Description of Respondents: Farms.

Number of Respondents: 8,000.

Frequency of Responses: Reporting: One-time (Every 5-years).

Total Burden Hours: 6,008.

Charlene Parker,
Departmental Information Collection Clearance Officer.

[FR Doc. 2013-16206 Filed 7-5-13; 8:45 am]

BILLING CODE 3410-20-P